DEPARTMENT OF THE INTERIOR

Fish and Wildlife Service

[FWS-R3-ES-2012-N213; FXES11130300000F3-123-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before October 1, 2012.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE82665A

Applicant: Melody Myers-Kinzie, Commonwealth Biomonitoring, Brownsburg, IN.

The applicant requests a permit to take (capture and release) the fanshell mussel (Cyprogenia stegaria), clubshell (Pleurobema clava), northern riffleshell (Epioblasma torulosa), pink mucket pearlymussel (Lampsilis abrupta), snuffbox (Epioblasma triquetra), and white catspaw (Epioblasma obliquata perobliquata) within the States of Indiana and Ohio. Proposed activities are to survey and monitor populations for the recovery and enhancement of survival of the species in the wild.

Permit Application Number: TE113009

Applicant: Steve A. Ahlstedt, Norris, TN.

The applicant requests a permit renewal to take (capture and release) the white catspaw within the States of Indiana and Ohio. Proposed activities are to survey and monitor populations for the recovery and enhancement of survival of the species in the wild.

Permit Application Number: TE023666

Applicant: Eric R. Britzke, U.S. Army Corps of Engineers—ERDC, Clinton, MS.

The applicant requests a permit renewal, with amendment, to take (capture and release; conduct non-lethal sampling) Indiana bats (Myotis sodalis), gray bats (Myotis grisescens), Virginia big-eared bats (Corynorhinus townsendii virginianus), Ozark big-eared bat (C. t. ingens), and Northern flying squirrel (Glaucomys sabrinus) throughout the range of the species in Alabama, Arkansas, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are for the recovery of the species through research and population monitoring.

Permit Application Number: TE82666A

Applicant: Justin G. Boyles, Southern Illinois University, Carbondale, IL.

The applicant requests a permit renewal, with amendments, to take (capture and release; conduct non-lethal sampling) Indiana bats and gray bats throughout the range of the species in Alabama, Arkansas, Connecticut, Delaware, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are for the recovery of the species and enhancement of survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: August 22, 2012.
Lynn Lewis,
Assistant Regional Director, Ecological Services, Midwest Region.

[FR Doc. 2012-21500 Filed 8-30-12; 8:45 am]

BILLING CODE P